DEPARTMENT OF THE INTERIOR

Fish and Wildlife Service

Lake Champlain Sea Lamprey Control Alternatives Workgroup

AGENCY: Fish and Wildlife Service, Interior.

ACTION: Notice of meeting.

SUMMARY: We, the U.S. Fish and Wildlife Service (Service), announce a meeting of the Lake Champlain Sea Lamprey Control Alternatives Workgroup (Workgroup). The Workgroup's purpose is to provide, in an advisory capacity, recommendations and advice on research and implementation of sea lamprey control techniques alternative to lampricide that are technically feasible, cost effective, and environmentally safe. The primary objective of the meeting will be to discuss potential research initiatives that may enhance alternative sea lamprey control techniques. The meeting is open to the public.

DATES: The Workgroup will meet on Thursday, March 6, 2008, from 9:30 a.m. to 12:30 p.m., with an alternate date of Thursday, March 20, 2008, from 9:30 a.m. to 12:30 p.m., should the meeting need to be cancelled due to inclement weather. Any member of public who wants to find out whether the meeting has been postponed may contact Stefi Flanders of the U.S. Fish and Wildlife Service at 802-872-0629 ext. 10 (telephone); or Stefi_Flanders@fws.gov (electronic mail) during regular business hours on the primary meeting date.

ADDRESSES: The meeting will be held at the Lake Champlain Basin Program main office in the Gordon-Center House, 54 West Shore Road (Route 314), Grand Isle, VT; telephone 802-372-3213.

FOR FURTHER INFORMATION CONTACT: Dave Tilton, Designated Federal Officer, Lake Champlain Sea Lamprey Control Alternatives Workgroup, Lake Champlain Fish and Wildlife Resources Office, U.S. Fish and Wildlife Service, 11 Lincoln Street, Essex Junction, VT 05452 (U.S. mail); 802-872-0629 (telephone); or Dave_Tilton@fws.gov (electronic mail).

SUPPLEMENTARY INFORMATION: We publish this notice under section 10(a)(2) of the Federal Advisory Committee Act (5 U.S.C. App.). The Workgroup's specific responsibilities are to provide advice regarding the implementation of sea lamprey control methods alternative to lampricides, to recommend priorities for research to be conducted by cooperating organizations and demonstration projects to be developed and funded by State and Federal agencies, and to assist Federal and State agencies with the coordination of alternative sea lamprey control research to advance the state of the science in Lake Champlain and the Great Lakes.

Dated: December 28, 2007.
Wendi Weber,
Acting Regional Director, U.S. Fish and Wildlife Service, Hadley, Massachusetts.

[FR Doc. E8-929 Filed 1-18-08; 8:45 am]

BILLING CODE 4310-55-P